FEDERAL RETIREMENT THRIFT INVESTMENT BOARD

Notice of Board Meeting

DATES: December 14, 2023 at 10:00 a.m. EST.

ADDRESSES: Telephonic. Dial-in (listen only) information: Number: 1-202-599-1426, Code: 675 746 624#; or via web: https://teams.microsoft.com/l/meetup-join/19%3ameeting_OTIxOTM4MzAtYTUyOC00NzNkLWFkMTUtZGQ3ODVhZTY0OGQx%40thread.v2/0?context=%7b%22Tid%22%3a%223f6323b7-e3fd-4f35-b43d-1a7afae5910d%22%2c%22Oid%22%3a%2241d6f4d1-9772-4b51-a10d-cf72f842224a%22%7d.

FOR FURTHER INFORMATION CONTACT: Kimberly Weaver, Director, Office of External Affairs, (202) 942-1640.

SUPPLEMENTARY INFORMATION: Board meeting agenda.

Open Session

1. Approval of the November 14, 2023, Board Meeting Minutes

2. Monthly Reports

(a) Participant Report

(b) Investment Report

(c) Legislative Report

3. Quarterly Reports

(d) Vendor Risk Management

4. Semi-Annual CLA Review

5. 2024 Board Calendar Review

6. Social Science Update

Authority: 5 U.S.C. 552b (e)(1).

Dated: December 5, 2023.
Dharmesh Vashee,
General Counsel, Federal Retirement Thrift Investment Board.

[FR Doc. 2023-26969 Filed 12-7-23; 8:45 am]

BILLING CODE P